DEPARTMENT OF LABOR

Office of the Secretary

Senior Executive Service; Appointment of Members to the Performance Review Board

Title 5 U.S.C. 4314(c)(4) provides that Notice of the Appointment of the individual to serve as a member of the Performance Review Board of the Senior Executive Service shall be published in the Federal Register.

The following individuals are hereby appointed to serve on the Department's Performance Review Board:

Permanent Membership

Chair—Deputy Secretary—Seth D. Harris.

Vice-Chair—Assistant Secretary for Administration and Management—T. Michael Kerr.

Alternate Vice-Chair—Acting Director, Human Resources Center—Sydney T. Rose.

Executive Secretary—Acting Director, Executive Resources—Kim L.H. Green.

Rotating Membership

ASP Kathleen E. Franks, Director, Office of Regulatory and Programmatic Policy—appointment expires on 09/30/13

EBSA Sharon S. Watson, Director, Office of Participant Assistance—appointment expires on 9/30/13

EBSA Jonathan Kay, Regional Director (New York)—appointment expires on 9/30/14

ILAB Marcia M. Eugenio, Director, Office of Child Labor, Forced Labor Human Trafficking—appointment expires on 09/30/13

OASAM Charlotte A. Hayes, Deputy Assistant Secretary for Policy—appointment expires on 09/30/13

OASAM Milton A. Stewart, Director, Business Operations Center—appointment expires on 09/30/13

OCFO Karen Tekleberhan, Deputy Chief Financial Officer—appointment expires on 09/30/2014

OLMS Stephen J. Willertz, Director, Office of Enforcement and International Union Audits—appointment expires on 09/30/2013

SOL Michael D. Felsen, Regional Solicitor, Boston—appointment expires on 09/30/13

SOL Deborah Greenfield, Deputy Solicitor—appointment expires on 9/30/13

SOL Jeffrey L. Nesvet, Associate Solicitor for Federal Employees' and Energy Workers' Compensation—appointment expires on 09/30/14

WHD Cynthia C Watson, Regional Administrator (Dallas)—appointment expires on 09/30/14

FOR FURTHER INFORMATION CONTACT: Ms. Kim Green, Acting Director, Office of Executive Resources, Room C5508, U.S. Department of Labor, Frances Perkins Building, 200 Constitution Ave NW., Washington, DC 20210, telephone: (202) 693-7642.

Signed at Washington, DC on 4th day of October, 2012.
Hilda L. Solis,
Secretary of Labor.

[FR Doc. 2012-25577 Filed 10-16-12; 8:45 am]

BILLING CODE 4510-23-P